Presidential Determination No. 2017-05 of December 8, 2016

Presidential Determination and Waiver Pursuant to Section 2249a of Title 10, United States Code, and Sections 40 and 40A of the Arms Export Control Act to Support U.S. Special Operations to Combat Terrorism in Syria

Memorandum for the Secretary of State [and] the Secretary of Defense

By the authority vested in me as President by the Constitution and the laws of the United States, including section 2249a of title 10, United States Code, sections 40 and 40A of the Arms Export Control Act (AECA) (22 U.S.C. 2780 and 2781), and section 301 of title 3, United States Code, I hereby:

• determine that the transaction, encompassing the provision of defense articles and services to foreign forces, irregular forces, groups, or individuals engaged in supporting or facilitating ongoing U.S. military operations to counter terrorism in Syria, is essential to the national security interests of the United States;

• waive the prohibitions in sections 40 and 40A of the AECA related to such a transaction;

• delegate to the Secretary of State the responsibility under section 40(g)(2) of the AECA to consult with and submit reports to the Congress for proposed exports, 15 days prior to authorizing them to proceed, that are necessary for and within the scope of this waiver determination and the transaction referred to herein;

• waive the prohibitions in section 2249a of title 10, United States Code, to the extent necessary to allow the Department of Defense to carry out such support; and

• delegate to the Secretary of Defense the responsibility under section 2249a(b)(2) of title 10, United States Code, to notify the appropriate congressional committees at least 15 days before this waiver takes effect.

The Secretary of Defense is authorized and directed to publish this determination in the Federal Register.

THE WHITE HOUSE,

Washington, December 8, 2016

[FR Doc. 2016-30107

Filed 12-12-16; 11:15 am]

Billing code 5001-06-P